DEPARTMENT OF TRANSPORTATION

Federal Aviation Administration

14 CFR Part 39

[Docket No. 2000-NM-105-AD; Amendment 39-12157; AD 2001-06-10]

RIN 2120-AA64

Airworthiness Directives; Airbus Model A300 B4-601, A300 B4-603, A300 B4-620, A300 B4-605R, A300 B4-622R, and A300 F4-605R Airplanes

AGENCY: Federal Aviation Administration, DOT.

ACTION: Final rule.

SUMMARY: This amendment adopts a new airworthiness directive (AD), applicable to all Airbus Model A300 B4-601, A300 B4-603, A300 B4-620, A300 B4-605R, A300 B4-622R, and A300 F4-605R airplanes. This AD requires repetitive high frequency eddy current (HFEC) or rototest inspections to detect cracking in the area surrounding the frame feet attachment holes between fuselage frames (FR) 41 and FR46; installation of new fasteners for certain airplanes; and follow-on corrective actions, if necessary. This AD is prompted by issuance of mandatory continuing airworthiness information by a foreign civil airworthiness authority. The actions specified by this AD are intended to prevent cracking of the center section of the fuselage, which could result in rupture of the frame foot and reduced structural integrity of the airplane.

DATES: Effective May 7, 2001.

The incorporation by reference of certain publications listed in the regulations is approved by the Director of the Federal Register as of May 7, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Airbus Model A300-600 series airplanes was published in the Federal Register on May 16, 2000 (65 FR 31113). That action proposed to require repetitive high frequency eddy current (HFEC) or rototest inspections to detect cracking in the area surrounding the frame feet attachment holes between fuselage frames (FR) 41 and FR46; installation of new fasteners for certain airplanes; and follow-on corrective actions, if necessary.

Comments

Interested persons have been afforded an opportunity to participate in the making of this amendment. Due consideration has been given to the comments received.

Request To Extend Grace Period

The commenters state that the 1,000-flight-cycle “grace period” specified for the initial inspection is unreasonably short. The commenters state that the airplane on which cracks were found is an exceptional example that does not realistically represent normal airplane utilization. That airplane had accumulated 26,200 flight cycles and 32,160 flight hours. The commenter notes that its own fleet has no airplane with more than 13,600 total flight cycles—about half the total flight cycles on the airplane on which the cracks were found. The commenter states that the 1,000-flight-cycle inspection requirement, combined with the specialized support required for any repair, will require special unscheduled visits to the heavy maintenance base. The commenter estimates that inspection costs will exceed $830,000, excluding any repair action.

The FAA infers that the commenters request an extension of the “grace period.” The FAA does not concur. Since the issuance of the service bulletin, the manufacturer has reported in-service findings of cracks found on airplanes near the threshold proposed in the Notice of Proposed Rulemaking. Although there is no damage tolerance justification for any grace period related to the identified unsafe condition, a grace period of 1,000 flight cycles is necessary to provide operators sufficient time to order the kits and plan the inspection for airplanes close to or exceeding the threshold as of the effective date of the AD. In light of the recent findings, no extension of the grace period is warranted.

Explanation of Change in Applicability of the AD

Since the proposed AD was issued, the Direction Généale de l'Aviation Civile (DGAC), which is the airworthiness authority for France, has revised its parallel airworthiness directive to exclude Airbus Model A300 F4-622R airplanes from the applicability. Because those airplanes are not subject to the unsafe condition identified in this AD, the FAA has accordingly revised the applicability of this final rule to exclude them.

Change to Note Reference

Additionally, Note 3 of the AD has been revised to refer to the revised French airworthiness directive described previously.

Conclusion

After careful review of the available data, including the comments noted above, the FAA has determined that air safety and the public interest require the adoption of the rule with the changes described previously. The FAA has determined that these changes will neither increase the economic burden on any operator nor increase the scope of the AD.

Cost Impact

The FAA estimates that 75 airplanes of U.S. registry will be affected by this AD, that it will take approximately 6 work hours per airplane to accomplish the required inspections, and that the average labor rate is $60 per work hour. Based on these figures, the cost impact of the AD on U.S. operators is estimated to be $27,000, or $360 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-06-10 Airbus Industrie: Amendment 39-12157. Docket 2000-NM-105-AD.

Applicability: All Model A300 B4-601, A300 B4-603, A300 B4-620, A300 B4-605R, A300 B4-622R, and A300 F4-605R airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent cracking of the center section of the fuselage, which could result in rupture of the frame foot and reduced structural integrity of the airplane, accomplish the following:

High Frequency Eddy Current (HFEC) or Rototest Inspection

(a) Perform a HFEC or rototest inspection to detect cracking in the area surrounding the frame feet attachment holes between fuselage frames (FR) 41 and FR46 from stringers 24 to 28, left-and right-hand sides, in accordance with Airbus Service Bulletin A300-53-6122, dated February 9, 2000, at the time specified in paragraph (a)(1) or (a)(2), as applicable.

(1) For airplanes on which Task 53-15-54 in Maintenance Review Board Document (MRBD), Revision 3, dated April 1998, has NOT been accomplished as of the effective date of this AD: Perform the inspection at the later of the times specified in paragraphs (a)(1)(i) and (a)(1)(ii) of this AD.

(i) Prior to the accumulation of the total flight-cycle or flight-hour threshold, whichever occurs first, specified in paragraph 1.E. (“Compliance”) of the service bulletin; or

(ii) Within the applicable grace period specified in paragraph 1.E. (“Compliance”) of the service bulletin.

(2) For airplanes on which Task 53-15-54 in Maintenance Review Board Document (MRBD), Revision 3, dated April 1998, has been accomplished as of the effective date of this AD: Perform the next repetitive inspection at the later of the times specified in paragraphs (a)(2)(i) and (a)(2)(ii) of this AD.

(i) Within the flight-cycle or flight-hour interval, whichever occurs first, specified in paragraph 1.E. (“Compliance”) of the service bulletin, following the latest inspection accomplished in accordance with the MRBD; or

(ii) Within the grace period specified in paragraph 1.E. (“Compliance”) of the service bulletin.

(b) For airplanes on which no cracking is detected during the inspection required by paragraph (a) of this AD, prior to further flight, install new fasteners as applicable, in accordance with Airbus Service Bulletin A300-53-6122, dated February 9, 2000; and repeat the inspection required by paragraph (a) of this AD thereafter at intervals not to exceed the applicable intervals specified in paragraph 1.E. (“Compliance”) of the service bulletin.

Corrective Actions

(c) For airplanes on which cracking is detected during any inspection required by this AD: Prior to further flight, except as required by paragraph (d) of this AD, accomplish corrective actions (e.g., performing rotating probe inspections, reaming out cracks, cold working fastener holes, and installing oversized fasteners) in accordance with Airbus Service Bulletin A300-53-6122, dated February 9, 2000. Repeat the inspection required by paragraph (a) of this AD thereafter at intervals not to exceed the applicable intervals specified in paragraph 1.E. (“Compliance”) of the service bulletin.

(d) If cracking is detected during any inspection required by this AD, and the service bulletin specifies to contact the manufacturer for an appropriate corrective action: Prior to further flight, repair in accordance with a method approved by the Manager, International Branch, ANM-116, FAA, Transport Airplane Directorate; or the Direction Générale de l'Aviation Civile (DGAC) (or its delegated agent).

Alternative Methods of Compliance

(e) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) Except as required by paragraph (d) of this AD, the actions must be done in accordance with Airbus Service Bulletin A300-53-6122, dated February 9, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-060-303(B) R1, dated July 12, 2000.

Effective Date

(h) This amendment becomes effective on May 7, 2001.

Issued in Renton, Washington, on March 22, 2001.
Vi L. Lipski,
Manager, Transport Airplane Directorate, Aircraft Certification Service.

[FR Doc. 01-7699 Filed 3-30-01; 8:45 am]

BILLING CODE 4910-13-P